NATIONAL SCIENCE FOUNDATION

Agency Information Collection Activities: Request for Comment Regarding Common Disclosure Forms for the Biographical Sketch and Current and Pending (Other) Support

AGENCY: National Science Foundation.

ACTION: Notice.

SUMMARY: In accordance with the requirements of the Paperwork Reduction Act (PRA) of 1995, the National Science Foundation (NSF), on behalf of the National Science and Technology Council's (NSTC) Research Security Subcommittee, is soliciting public comment on common disclosure forms for the Biographical Sketch and Current and Pending (Other) Support sections of a research application. An excel spreadsheet that summarizes all of the data elements that will be collected in both the Biographical Sketch and Current and Pending (Other) Support, as well as their associated attributes, also is included for public comment. The National Science Foundation has agreed to serve as steward for collection and resolution of public comments, as well as for posting and maintaining the latest versions of the above-mentioned documents of the common forms and other associated documents. After obtaining and considering public comment, NSF will prepare the submission requesting Office of Management and Budget (OMB) clearance of this collection for no longer than 3 years. NSF will be submitting this information collection request as Common Forms to permit Federal research funding agencies beyond NSF to streamline the information collection process in coordination with OMB.

DATES: Written comments on this notice must be received by October 31, 2022 to be assured consideration. Comments received after that date will be considered to the extent practicable.

ADDRESSES: Please address comments to Suzanne H. Plimpton, Reports Clearance Officer, National Science Foundation, 2415 Eisenhower Avenue, Suite E7400, Alexandria, Virginia 22314; telephone (703) 292-7556; or send an email to splimpto@nsf.gov. Individuals who use a telecommunications device for the deaf (TDD) may call the Federal Information Relay Service (FIRS) at 1-800-877-8339, which is accessible 24 hours a day, 7 days a week, 365 days a year (including Federal holidays).

FOR FURTHER INFORMATION CONTACT: For information on the proposed Common Disclosure Forms, contact Jean Feldman, Head, Policy Office, Division of Institution & Support, National Science Foundation, 2415 Eisenhower Avenue, Alexandria, VA, 22314, email: jfeldman@nsf.gov; telephone (703) 292-8243; FAX: (703) 292-9171.

For further information on the NSTC Research Security Subcommittee, contact Christina Ciocca Eller, Assistant Director for Evidence and Policy, Executive Office of the President, Office of Science and Technology Policy, 725 17th Street NW, Washington, DC 20503; email: ResearchSecurity@ostp.eop.gov, telephone 202-456-6059; FAX 202-456-6027.

Comments: Comments are requested on: (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

We encourage respondents to submit comments electronically to ensure timely receipt. We cannot guarantee that comments mailed will be received before the comment closing date. Please include “Common Disclosure Forms for the Biographical Sketch and Current and Pending (Other) Support” in the subject line of the email message; please also include the full body of your comments in the text of the message and as an attachment. Include your name, title, organization, postal address, telephone number, and email address in your message.

SUPPLEMENTARY INFORMATION:

Title of Collection: Request for Comment regarding Common Disclosure Forms for the Biographical Sketch and Current and Pending (Other) Support.

OMB Approval Number: 3145-NEW.

Expiration Date of Approval: Not applicable.

Type of Request: Intent to seek approval to establish a common disclosure forms information collection for three years.

I. Background

Section 4(b) of NSPM-33 directs that “research funding agencies shall require the disclosure of information related to potential conflicts of interest and commitment from participants in the Federally funded R&D enterprise . . . The appropriate disclosure requirement varies depending on the individual's role in the United States R&D enterprise.” Section 4(b)(vi) directs that “agencies should standardize forms for initial disclosures as well as annual updates, . . . and should provide clear instructions to accompany these forms and to minimize any associated administrative burden.”

Over the past several months, the NSTC Research Security Subcommittee has worked to develop consistent disclosure requirements from senior personnel, as well as to develop proposed common disclosure forms for the Biographical Sketch and Current and Pending (Other) Support sections of an application for Federal research and development (R&D) grants or cooperative agreements. The purpose of the Biographical Sketch is to assess how well qualified the individual, team, or organization is to conduct the proposed activities. The purpose of Current and Pending (Other) Support is to assess the capacity of the individual to carry out the research as proposed and to help identify any potential scientific and budgetary overlap/duplication, as well as overcommitment with the project being proposed.

These common forms are intended to clarify what is expected of senior personnel applying for R&D funding from Federal research funding agencies. Variations among research agencies will be limited to cases: (a) where required by statute or regulation; (b) where more stringent protections are necessary for protection of R&D that is classified, export-controlled, or otherwise legally protected; or (c) for other compelling reasons consistent with individual agency authorities and as coordinated through the NSTC.

As stated in the NSPM-33 Implementation Guidance, “the goal of these common forms and accompanying instructions is to ensure that applying for awards from any Federal research funding agency will require disclosing the same information in the same manner, to increase clarity and reduce administrative burden on the research community. In some cases, research agencies may adapt the forms and instructions, where required by their legal authorities. Such common forms also will allow the research community to identify and point out where greater clarity may be needed.”

Agencies may develop agency- or program-specific data elements and instructions, if necessary, to meet programmatic requirements, although agencies will be instructed to minimize the degree to which they supplement the common forms. Modification and/or supplementation of these common forms will require clearance by OMB/OIRA under the PRA process.

These common forms are intended to replace forms/formats currently used by agencies for these sections of applications, thereby increasing the consistency of disclosure forms and reducing administrative burden.

II. Invitation to Comment

The following documents are available for review and comment on the NSF website (see https://www.nsf.gov/bfa/dias/policy/nstc_disclosure.jsp):

a. A common Biographical Sketch form, including data elements and associated instructions;

b. A common Current and Pending (Other) Support form, including data elements and associated instructions; and

c. An excel spreadsheet that summarizes all the data elements, as well as their data attributes.

The National Science Foundation has agreed to serve as steward for collection and resolution of public comments, as well as for posting and maintaining the latest versions of the above- mentioned documents of the common forms and other associated documents.

Input is welcome on any aspect of the proposed common disclosure forms, including the accompanying instructions, and excel spreadsheet.

Burden on the Public
Form name | Number of proposals (estimated) | Number of respondents (estimated) | Burden time (hours) | Total
Biographical Sketch | 47,900 | 4 | 1 | 191,600
Current and Pending (Other) Support | 47,900 | 4 | 1 | 191,600
Total burden hours |  |  |  | 383,200

Dated: August 25, 2022.
Suzanne H. Plimpton,
Reports Clearance Officer, National Science Foundation.

[FR Doc. 2022-18746 Filed 8-30-22; 8:45 am]

BILLING CODE 7555-01-P